DEPARTMENT OF AGRICULTURE

Submission for OMB Review; Comment Request

December 14, 2000.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Foreign Agricultural Service

Title: Certificate for Quota Eligibility.

OMB Control Number: 0551-0014.

Summary of Collection: Section 5 (a)(i) of the Harmonized Tariff Schedule of the United States authorizes the Secretary of Agriculture to establish a raw-cane sugar tariff-rate quota (TRQ). Section 5(b)(i) authorized the U.S. Trade Representative to allocate the raw-cane sugar tariff-rate quota among supplying countries. Certificates of Quota Eligibility (CQE) are issued to the 40 countries that receive TRQ allocations to export sugar to the United States. The CQE is completed by the certifying authority in the foreign country who certifies that the sugar that will be exported to the United States was produced in the foreign country that has the TRQ allocation. The Foreign Agricultural Service (FAS) will collect information using form FSA-961.

Need and Use of the Information: FAS will collect the quantity, name of shipper, name of vessel, and port of loading. The information will help FAS determine if the quantity to be imported is eligible to be entered under the TRQ.

Description of Respondents: Business or other for-profit; individuals or households.

Number of Respondents: 40.

Frequency of Responses: Reporting: On occasion.

Total Burden Hours: 200.

Foreign Agricultural Service

Title: CCC's Supplier Credit Guarantee Program (SCGP).

OMB Control Number: 0551-0037.

Summary of Collection: The Supplier Credit Guarantee Program (SCGP) offers credit guarantees to exporters in order to maintain and increase overseas importer's ability to purchase U.S. agricultural goods. The SCGP is designed to assist exporters of U.S. agricultural commodities who wish to provide relatively short-term (up to 180 days) credit to their importers evidenced by promissory notes executed by such importers. Under 7 CFR Part 1493, exporters are required to submit the following: (1) Information about the exporter for program participation; (2) export sales information in connection with applying for a payment guarantee; (3) information regarding the actual export of the commodity (evidence of export report); (4) notice of default and claims for loss; and (5) other documents, if applicable, including notice assignment of the right to receive proceeds under the export credit guarantee. The Foreign Agricultural Service (FAS) will collect information using the guarantee application, export report and assignment notice from the participants by mail, fax, e-mail, and telephone.

Need and Use of the Information: FAS will collect information to manage, plan, evaluate and account for government resources. The reports and records are required to ensure the proper and judicious use of public funds.

Description of Respondents: Business or other for-profit.

Number of Respondents: 288.

Frequency of Responses: Recordkeeping; Reporting: On occasion.

Total Burden Hours: 1,166.

Farm Service Agency

Title: Insured Farm Ownership Loan Policies, Procedures, and Authorizations.

OMB Control Number: 0560-0157.

Summary of Collection: The Consolidated Farm and Rural Development Act (CONACT) provides authorization to the Secretary of Agriculture to make and insure loans to farmers and ranchers. In addition, the Secretary is authorized to make such rules and regulations, prescribe the terms and conditions for making and insuring loans, security instruments and agreements. The Farm Service Agency (FSA) Administrator has been delegated the authority to administer the farm ownership loan program in accordance with the requirements in 7 CFR part 1943 subpart A.

Need and Use of the Information: The agency uses the information to evaluate loan making or loan servicing proposals. The information is needed by the agency to evaluate an applicant's eligibility, and to determine if the operation is economically feasible and the security offered in support of the loan is adequate. If this information were not collected, the agency and applicant would be unable to adequately bind a real estate sales contract and meet the congressionally mandated mission of loan programs.

Description of Respondents: Individuals or households; Farms.

Number of Respondents: 210.

Frequency of Responses: Reporting: On occasion.

Total Burden Hours: 54.

Agricultural Marketing Service

Title: National Research, Promotion, and Consumer Information Programs.

OMB Control Number: 0581-0093.

Summary of Collection: The U.S. Department of Agriculture has the responsibility for implementing and overseeing programs for a variety of commodities including cotton, dairy, eggs, beef, pork, soybeans, honey, potatoes, watermelons, mushrooms, kiwifruit, popcorn, and olive oil. Various Acts authorize these programs to carry out projects relating to research, consumer information, advertising, sales promotion, producer information, market development and product research to assist, improve, or promote the marketing, distribution, and utilization of their respective commodities.

Need and Use of the Information: The Secretary of Agriculture appoints board members and approves the boards' budgets, plans, and projects. This responsibility has been delegated to the Agricultural Marketing Service (AMS). AMS' objective in carrying out this responsibility is to ensure the following: (1) Funds are collected and properly accounted for; (2) expenditures of all funds are for the purposes authorized by enabling legislation; and (3) that each board's administration of the programs conforms to USDA policy. The applicable commodity program areas within AMS have direct oversight over the respective programs. The boards administer the various programs utilizing a variety of forms to carry out their responsibilities. Only authorized employees of the various boards and USDA employees will use the information collected. If this data were collected less frequently, (1) it would hinder data needed to collect and refund assessments in a timely manner and result in delayed or even lost revenue; (2) the boards would be unable to carry out the responsibilities of their respective Acts; and (3) additional record keeping requirements would be imposed.

Description of Respondents: Business or other for profit; Farms; Federal Government.

Number of Respondents: 321,510.

Frequency of Responses: Recordkeeping; Reporting: On occasion; Weekly; Monthly; Semi-annually; Annually.

Total Burden Hours: 354,066.

Agricultural Marketing Service

Title: Pricing Pilot program.

OMB Control Number: 0581-0190.

Summary of Collection: The Pricing Pilot Program was included in the Consolidated Appropriations Act of 2000 (Section 3 of H.R. 3428 of the 106th Congress, as enacted by Section 1001(a)(8) of Public Law 106-113 (113 Stat. 1536) and signed into law on November 29, 1999). Dairy farmers must sign a disclosure statement before participating in the pilot program. The effect of the amendment is to permit a handler to pay producers or cooperative associations a negotiated price, rather than the minimum Federal order price, for milk that is under forward contract, provided that such milk does not exceed the handler's non-fluid use of milk for the month. The pilot project enables the Agricultural Marketing Services (AMS) to conduct a study of forward contracting to determine the impact on milk prices paid to producers in the U.S. This is a voluntary program and only applies to federally regulated milk that is not packaged for fluid use.

Need and Use of the Information: AMS will collect information to review the contract to ensure it has been signed before exempting a handler from paying a contracting producer the minimum order price for that portion of his or her milk that is covered by the contract. AMS will also determine the impact on milk prices paid to producers in the United States. Dairy farmers will have to sign a disclosure statement, before entering into a forward contract. The disclosure statement, contains guidelines to help the dairy farmers understand the forward contract process. It will be completed by dairy farmers who choose to participate in the pilot program. If the information is not collected the forward pricing pilot program that was mandated by Congress will not be able to be conducted and forward pricing contracts would not be recognized under the Federal Order program.

Description of Respondents: Farms.

Number of Respondents: 8000.

Frequency of Response: Reporting: On occasion.

Total Burden Hours: 2000.

Agricultural Marketing Service

Title: Marketing Order Committee/Board Interview.

OMB Control Number: 0581-0195.

Summary of Collection: Under the Agricultural Marketing Agreement Act of 1937, as amended (7 U.S.C. 601-674), industries enter into order and agreement programs. Order and agreement regulations help ensure adequate supplies of high quality products for consumers and adequate returns to producers. Order and agreement programs provide an opportunity for producers of fresh fruit, vegetables, and specialty crops in specified production areas to work together to solve marketing problems that cannot be solved individually. Currently, there are 37 orders and agreements in effect.

Need and Use of the Information: The information collected is used to conduct interviews of managers and committees and board members for order and agreement programs. Interviews will enable the agency to better understand the factors that encourage or discourage committee/board participation. The Department of Agriculture will use the information to develop a training program and to encouraging eligible women, minorities, and people with disabilities to participate on USDA's order and agreement committee and boards. Authorized representatives of USDA, including Agricultural Marketing Service (AMS), Fruit and Vegetable Programs' regional and headquarters' staff will use the information collected. Collecting the information less frequently would eliminate data needed to keep the respective marketing order industries and the Secretary abreast of changes or improvements in committee/board operations at the local level.

Description of Respondents: Farms.

Number of Respondents: 8000.

Frequency of Response: Reporting: On occasion.

Total Burden Hours: 2000.

Forest Service

Title: Operating Plan.

OMB Control Number: 0596-0086.

Summary of Collection: The National Forest Management Act, 16 U.S.C. 472a (14)(c) (Act), requires timber sale operating plans on timber sales that exceed 2 years in length. The regulations at 36 CFR 223.32 have a similar requirement. The operating plans are collected within 60 days of award of timber sale contracts and annually thereafter until harvest is complete. There is no prescribed format for the collection of the information. Timber sale purchases may submit the required information in the form of a chart or letter using surface mail, electronic mail, or via facsimile. The information is based on the timber sale purchaser's business plan.

Need and Use of the Information: Forest Service (FS) will collect information to determine eligibility for additional contract time. In addition, the information is used to plan the agency timber sale contract administration workload and to meet other contract obligations. The information collected includes planned periods and methods of anticipated major activities, including, road construction, timber harvesting, and completion of other contract requirements.

Description of Respondents: Business or other for-profit; Individuals or households.

Number of Respondents: 2,500.

Frequency of Responses: Reporting: Annually.

Total Burden Hours: 1,875.

National Agricultural Statistics Service

Title: Milk and Milk Products.

OMB Control Number: 0535-0020.

Summary of Collection: U.S. Code Title 7, Section 2204, specifies that “the Secretary of Agriculture shall procure and preserve all information concerning agriculture which he can obtain * * * by the collection of statistics * * * and shall distribute them among agriculturists.” The National Agricultural Statistics Services (NASS) primary function is to prepare and issue current official state and national estimates of crop and livestock production. Estimates of milk production and manufactured dairy products are an integral part of this program. Milk and dairy statistics are used by the U.S. Department of Agriculture (USDA) to help administer price support programs and by the dairy industry in planning, pricing, and projecting supplies of milk and milk products.

Need and Use of the Information: NASS will collect information to develop and implement a biweekly cream/milkfat price survey to benefit all segments of the dairy industry. This data will be collected as a pilot project for a minimum of two months. The date will be analyzed for accuracy, response/cooperation from manufacturers, and other related factors. Continuation of this survey will depend on the results of the analysis. Major users of cream/milkfat, including manufacturers of processed cheese, butter, cream cheese, and ice cream mix, will base biweekly milkfat prices on purchases. The selected firms account for about 85 percent of the U.S. total milkfat used in these products. Only U.S. level data will be published to avoid disclose problems that regional data would present.

Description of Respondents: Farms; Business or other for-profit.

Number of Respondents: 44,689.

Frequency of Responses: Reporting: Quarterly; Weekly; Monthly; Annually.

Total Burden Hours: 21,571.

Food and Nutrition Service

Title: Quality Control Review Schedule.

OMB Control Number: 0584-0299.

Summary of Collection: State agencies are required to perform Quality Control (QC) reviews for the Food Stamp Program (FSP). The legislative basis for the operation of the QC system is provided by Section 16 of the Food Stamp Act of 1977. The FNS-380-1, Quality Control Review Schedule, is for State use to collect both QC data and case characteristics for the Food Stamp Program and to serve as the comprehensive data entry form for FSP QC reviews.

Need and Use of the Information: The Food and Nutrition Service (FNS) will collect information to monitor and reduce errors, develop policy strategies, and analyze household characteristic data. In addition, FNS will use the data to determine sanctions and incentive based on error rate performance, and to estimate the impact of some program changes to FSP participation and costs by analyzing the available household characteristic data.

Description of Respondents: State, Local, or Tribal Government; Federal Government; Farms; Individuals or households.

Number of Respondents: 53.

Frequency of Responses: Recordkeeping; Reporting: Weekly; Monthly.

Total Burden Hours: 58,686.

Rural Utilities Service

Title: Environmental Policies and Procedures (7 CFR Part 1794).

OMB Control Number: 0572-0117.

Summary of Collection: The Rural Utilities Service (RUS) published its revised Environmental Policies and Procedures in December, 1998. The rule promulgated environmental regulations that cover all RUS Federal actions taken by RUS' electric, telecommunications, water and environmental programs. The regulation was necessary to ensure continued RUS compliance with the Council on Environmental Quality (CEQ) Regulations for Implementing the Procedural Provisions of the National Environmental Policy Act (NEPA) (40 CFR Parts 1500-1508), and certain related Federal environmental laws, statutes, regulations, and Executive Orders. RUS electric, telecommunications, water and environmental program borrowers provide environmental documentation to assure that policy contained in NEPA is followed.

Need and Use of the Information: RUS will collect information to evaluate the cost and feasibility of the proposed project and the environmental impact.

Description of Respondents: Non-for-profit institutions; Business or other for-profit.

Number of Respondents: 600.

Frequency of Responses: Reporting: On occasion.

Total Burden Hours: 450,200.

Nancy B. Sternberg,
Departmental Clearance Officer.

[FR Doc. 00-32298 Filed 12-18-00; 8:45 am]

BILLING CODE 3410-01-M